INTERNATIONAL TRADE COMMISSION

[Investigation Nos. 731-TA-1063-1064 and 1066-1068 (Second Review)]

Frozen Warmwater Shrimp From Brazil, China, India, Thailand, and Vietnam; Determinations

On the basis of the record ¹ developed in the subject five-year reviews, the United States International Trade Commission (“Commission”) determines, pursuant to the Tariff Act of 1930 (“the Act”), that revocation of the antidumping duty orders on frozen warmwater shrimp from China, India, Thailand, and Vietnam would be likely to lead to continuation or recurrence of material injury to an industry in the United States within a reasonably foreseeable time. The Commission further determines that revocation of the antidumping duty order on frozen warmwater shrimp from Brazil would not be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on March 1, 2016 (81 FR 10659) and determined on June 6, 2016 that it would conduct full reviews (81 FR 39711, June 17, 2016). Notice of the scheduling of the Commission's reviews and of a public hearing to be held in connection therewith was given by posting copies of the notice in the Office of the Secretary, U.S. International Trade Commission, Washington, DC, and by publishing the notice in the Federal Register on November 8, 2016 (81 FR 78632). The hearing was held in Washington, DC, on March 16, 2017, and all persons who requested the opportunity were permitted to appear in person or by counsel.

The Commission made these determinations pursuant to section 751(c) of the Act (19 U.S.C. 1675(c)). It completed and filed its determinations in these reviews by May 25, 2017. The views of the Commission are contained in USITC Publication 4688 (May 2017), entitled Frozen Warmwater Shrimp from Brazil, China, India, Thailand, and Vietnam: Investigation Nos. 731-TA-1063-1064 and 1066-1068 (Second Review).

By order of the Commission.
Issued: May 22, 2017.
Lisa R. Barton,
Secretary to the Commission.

[FR Doc. 2017-10715 Filed 5-24-17; 8:45 am]

BILLING CODE 7020-02-P